DEPARTMENT OF TRANSPORTATION

Surface Transportation Board

[STB Finance Docket No. 33838]

Metro Regional Transit Authority—Acquisition Exemption—CSX Transportation, Inc.

Metro Regional Transit Authority (METRO) has filed a notice of exemption under 49 CFR 1150.31 to acquire from CSX Transportation, Inc. (CSXT) certain railroad assets between approximately milepost 16.38 in Canton, OH, and approximately milepost 40.42 in Akron, OH, a distance of approximately 24.58 rail miles in Stark and Summit Counties, OH.¹

¹ METRO will not acquire the right or obligation to conduct any rail freight operations on the subject line. CSXT will retain a freight easement on the line, pursuant to which it will conduct rail operations between Akron and Krumroy, OH. The southern portion of the line, between Valuation Station 2637+1± at Aultman, OH, and Valuation Station 3120+64.5 near Canton, OH, is subject to a lease and operated by The Wheeling & Lake Erie Railway Company (W&LE). In a letter filed on June 8, 2000, W&LE indicates that it intends to file in the near future for discontinuance authority over the southern segment.

The transaction is scheduled to take place as soon as possible after the May 31, 2000 effective date of the exemption.²

² METRO simultaneously filed a motion to dismiss this notice of exemption. The Board will address the jurisdictional issue raised by the motion to dismiss in a subsequent decision.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33838, must be filed with the Surface Transportation Board, Office of the Secretary, Case Control Unit, 1925 K Street, NW., Washington, DC 20423-0001. In addition, a copy of each pleading must be served on Kevin M. Sheys, Oppenheimer Wolff & Donnelly LLP, 1350 Eye Street, NW., Suite 200, Washington, DC 20005.

Board decisions and notices are available on our website at “WWW.STB.DOT.GOV.”

Decided: June 16, 2000.
By the Board, David M. Konschnik, Director, Office of Proceedings.
Vernon A. Williams,
Secretary.

[FR Doc. 00-15980 Filed 6-22-00; 8:45 am]

BILLING CODE 4915-00-P